DEPARTMENT OF EDUCATION

List of Borrowers Who Have Defaulted on Their Health Education Assistance Loans

AGENCY: Federal Student Aid, Department of Education.

ACTION: Notice.

SUMMARY: Federal Student Aid (FSA), as required by the Public Health Service Act (the Act) is publishing this list of Health Education Assistance Loan (HEAL) borrowers who have defaulted on their loans as of June 30, 2018. This information is also made available for use by organizations authorized by the Act.

FOR FURTHER INFORMATION CONTACT:

For Defaulted HEAL Borrowers with Account-Related Questions: A borrower who is in default on a HEAL program loan and who has an account-related question should contact: Accounting Services, Debt Collection Center, Mailstop 10230B, 7700 Wisconsin Avenue, Suite 8-8110D, Bethesda, MD 20857. Telephone: (301) 492-4664.

For General HEAL Information: For general HEAL program questions, contact Tawana Lewis: Telephone: (844) 509-8957. Email: HEAL@ed.gov.

For Organizations Requesting HEAL Defaulted Borrower Information or Confirmation under Section 709(c)(2) of the Act (42 U.S.C. 292h(c)(2)): To request information related to a HEAL defaulted borrower or confirmation of the borrower's default status, contact the HEAL program team: Telephone: (844) 509-8957. Email: HEAL@ed.gov.

If you use a telecommunications device for the deaf (TDD) or a text telephone (TTY), call the Federal Relay Service, toll free, at 1-800-877-8339.

SUPPLEMENTARY INFORMATION: From fiscal year 1978 through fiscal year 1998, the HEAL program insured loans made by participating lenders to eligible graduate students in schools of medicine, osteopathy, dentistry, veterinary medicine, optometry, podiatry, public health, pharmacy, and chiropractic, and in programs in health administration and clinical psychology. Authorization for new HEAL program loans was discontinued on September 30, 1998.

Under division H, title V, section 525 of the Consolidated Appropriations Act, 2014 (Pub. L. 113-76), and title VII, part A, subpart I of the Public Health Service Act, the authority to administer the HEAL program, including servicing, collecting, and enforcing any loans made under the HEAL program that remain outstanding, was transferred from the Secretary of Health and Human Services to the Secretary of Education effective July 1, 2014. The Act and a system of records notice published in the Federal Register on August 4, 2018 (83 FR 40264), permits the publishing of the list of HEAL borrowers who have defaulted on their loans.

Information on the HEAL program is available on the Department of Education's Information for Financial Aid Professionals (IFAP) website at: www.ifap.ed.gov.

List of Defaulters: The Appendix at the end of this notice provides the names and other information of borrowers who have defaulted on their HEAL program loans as of June 30, 2018. Specifically, the Appendix includes the borrower's name, last known city and State of residence, area of practice, and the total amount due on the HEAL debt. The Department publishes this information in order to correctly identify the person in default and to provide relevant information to the authorized recipients of this information, such as State licensing boards and hospitals.

In accordance with section 709(c)(2) of the Act (42 U.S.C. 292h(c)(2)), FSA will provide the information included in this Federal Register notice and updated information on the borrower's default status, to relevant Federal agencies, and to schools, school associations, professional and specialty associations, State licensing boards, hospitals with which listed borrowers may be associated, and other relevant organizations, upon written request to the email address listed under FOR FURTHER INFORMATION CONTACT. Any written request must be on the letterhead of the organization making the request.

Accessible Format: Individuals with disabilities can obtain this document in an accessible format (e.g., braille, large print, audiotape, or compact disc) by contacting the HEAL program team: Telephone: (844) 509-8957. Email: HEAL@ed.gov.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1070b et seq. and 1087aa et seq.; 42 U.S.C. 2751 et seq. and 42 U.S.C. 292h(c)(1).

Dated: November 9, 2018.
James F. Manning,
Acting Chief Operating Officer, Federal Student Aid.

Appendix

Federal Student Aid

U.S. Department of Education

Health Education Assistance Loan Defaulters by Last Name as of June 30, 2018
Last name | First name | Mi | City | State | Discipline | Date reported | Amount due
Abe | Gregory | N | Tujunga | CA | PHA | 1/21/1998 | $70,973
Ackley | Brainard | L | Kitty Hawk | NC | CHM | 1/21/1998 | 22,784
Acosta-Delgado | Feliberto | D | Bronx | NY | DEN | 3/1/1999 | 91,821
Adams | Stephen |  | League City | TX | CHM | 3/1/1999 | 88,433
Addison Sr | Michael | A | Allendale | SC | CHM | 2/14/2013 | 9,702
Adeli | Mojgan | E | Los Angeles | CA | DEN | 3/1/1999 | 137,885
Adkins | Margo | M | Austin | TX | MED | 1/21/1998 | 814,047
Aiken | Richard | F | Playa Del Rey | CA | CHM | 8/21/2015 | 83,805
Al-Amin | Ihsaan |  | Ringgold | GA | MED | 11/2/2000 | 92,759
Alana | Manuela | L | Pharr | TX | POD | 9/24/2014 | 240,556
Alden | Thomas | E | Cambridge | MA | CHM | 11/2/2000 | 125,854
Allen | John | S | Kingford | MI | OPT | 2/2/2018 | 42,077
Allen | Lawrence | P | Temecula | CA | CHM | 7/31/1998 | 332,963
Alter | Dale | N | Lafayette | CA | MED | 2/5/2009 | 423,417
Anderson | Angela | J | Torrance | CA | MED | 1/21/1998 | 165,750
Anderson | Gwendolyn |  | Lansdowne | PA | POD | 1/21/1998 | 267,198
Anyaji | George | I | San Diego | CA | MED | 4/25/2014 | 121,135
Armstrong | Daniel | J | San Francisco | CA | CHM | 5/17/1999 | 151,399
Arnesen | Douglas | W | Atascadero | CA | CHM | 5/17/1999 | 52,715
Ayoola-Archie | Olatokunbo | M | Lancaster | CA | MED | 11/12/2013 | 49,724
Azcueta | Justina | Q | San Jose | CA | DEN | 5/7/2013 | 154,820
Bacon | Pamela | M | Hollister | MO | DEN | 5/17/1999 | 243,204
Baez | Ana | V | Somerset | NJ | DEN | 5/14/2002 | 147,799
Bahadue | George | P | Hialeah | FL | OST | 3/1/1999 | 253,815
Baird | Curtis | J | Yucaipa | CA | MED | 5/14/2002 | 111,709
Baker | Gale |  | Olympia Flds | IL | DEN | 5/17/2001 | 73,494
Baker | Walter | A | Mill Valley | CA | DEN | 5/11/2005 | 436,467
Ball JR | Thomas |  | Detroit | MI | POD | 11/12/2013 | 111,033
Baranco | Patricia | E | Lake Charles | LA | DEN | 3/1/1999 | 830,242
Baratta | George |  | Danville | CA | CHM | 11/2/2000 | 29,333
Barber | Mildred | L | Washington | DC | MED | 11/14/2007 | 151,119
Barnes | De Elward | F | Los Angeles | CA | CHM | 11/10/2004 | 54,021
Barnett | Brian | D | Pearland | TX | CHM | 1/21/1998 | 80,454
Barney | Thomas | W | Signal Mountain | TN | CHM | 8/22/2017 | 46,616
Barrows | Joni |  | Newmarket | NH | DEN | 5/19/2009 | 640,705
Bayles | Jay | C | Westlake Village | CA | CHM | 8/11/2005 | 121,268
Bear | Todd | L | Houston | TX | CHM | 9/24/2014 | 76,941
Beckford | Audrey | L | East Orange | NJ | OST | 2/15/2002 | 72,800
Bennett | Kathy |  | Caldwell | ID | CHM | 8/12/2016 | 82,567
Bentley JR | James | W | Van Nuys | CA | DEN | 8/12/2016 | 25,463
Bergstrom | Eric | R | Anaheim Hills | CA | CHM | 5/7/2013 | 33,459
Bertin | Michael | W | West Bloomfield | MI | DEN | 1/21/1998 | 12,673
Bertsch | Dar | A | Santa Cruz | CA | CHM | 4/25/2014 | 40,301
Bettis | Gail | M | Bellrose | NY | DEN | 1/21/1998 | 95,004
Biosah-Coleman | Ada | N | Houston | TX | PUB | 9/24/2014 | 50,082
Bittenbender | Robert | G | Clarks Summit | PA | CHM | 11/7/2001 | 42,971
Bland JR | Henry | N | Jacksonville | FL | DEN | 5/14/2002 | 241,584
Blase | Richard | M | Worcester | MA | DEN | 1/21/1998 | 446,738
Bolton | Paul | K | Kansas City | MO | CHM | 11/2/2000 | 128,654
Booher | Janette | L | South San Francisco | CA | CHM | 2/1/2001 | 63,962
Boshes | Perri | D | Deerfield Beach | FL | CHM | 1/21/1998 | 65,201
Bowman | Jeffrey | S | Salt Lake City | UT | CHM | 1/21/1998 | 22,309
Brandt | Susan | J | Winston Salem | NC | MED | 7/6/2012 | 98,819
Brantley | Carl | E | Houston | TX | DEN | 9/24/2014 | 43,100
Breazeale | Michael | E | Marietta | GA | CHM | 1/21/1998 | 319,438
Brodie | Douglas | K | San Antonio | TX | DEN | 1/21/1998 | 370,733
Brodsky | Barbara | L | San Francisco | CA | CHM | 1/21/1998 | 21,274
Bronk | Brian | R | Santa Monica | CA | CHM | 1/21/1998 | 73,217
Broussard | Charlotte | R | Carrollton | TX | CHM | 11/2/2000 | 23,760
Broussard | Linda | C | Los Angeles | CA | CHM | 2/10/2011 | 13,258
Brown | Darla | J | Highlands | TX | CHM | 1/21/1998 | 417,880
Brown | Jeffrey | T | Laguna Niguel | CA | CHM | 11/7/2001 | 31,645
Brown-Collins | Jannas | E | Columbia | SC | DEN | 5/31/2018 | 558,493
Bruyning | Edwin | F | Miami | FL | DEN | 1/21/1998 | 331,250
Buchta | Joseph | F | Bradenton | FL | DEN | 7/26/2018 | 35,208
Buchwald-Heilig | Bonnie | I | Tucson | AZ | CHM | 1/21/1998 | 44,173
Buford | John | I | Philadelphia | PA | OST | 5/17/2001 | 67,880
Bui | Khai | T | Springfield | MA | DEN | 8/16/2006 | 116,675
Bulen | Jerry | L | Brandon | FL | OST | 2/28/2005 | 183,071
Bunce | Christine | T | Sonoma | CA | CPY | 2/1/2001 | 182,337
Burke-Lundy | Elaine | I | Davie | FL | MED | 5/16/2011 | 40,447
Caballero | Jorge | R | Los Angeles | CA | CHM | 1/21/1998 | 262,521
Cabrera | Cecilia | I | Pembroke Pines | FL | OPT | 2/5/2009 | 21,020
Cabrera | Dakila |  | Fairfield | CA | CHM | 8/17/2012 | 4,876
Caldwell | William | G | Concord | MA | DEN | 5/14/2002 | 111,009
Calix | Raul | O | Lennox | CA | CHM | 5/16/2011 | 11,471
Campanale | Paul | R | Jacksonville | FL | CHM | 1/21/1998 | 90,362
Canillas | Gregorio | L | Long Beach | CA | CPY | 5/16/2011 | 74,564
Caporaso | Nicholas | G | West Liberty | OH | CHM | 2/1/2001 | 35,352
Caputo | Francesco | J | Plainview | NY | CHM | 7/6/2012 | 253,184
Cardenas-Cuyuche | Ines | B | Los Angeles | CA | CHM | 11/18/2011 | 22,422
Carlos | Lester | B | San Leandro | CA | CHM | 8/5/2004 | 71,956
Carney | Timothy | M | East Patchogue | NY | CHM | 11/26/2012 | 34,116
Carpenter | Richard | P | Saginaw | MI | CHM | 1/21/1998 | 47,308
Carrie | Thomas | T | Mount Vernon | NY | MED | 3/1/1999 | 344,043
Carthen | Michael |  | Brooklyn | NY | POD | 1/21/1998 | 361,705
Castaline | Perren | V | Canyon Country | CA | CHM | 8/11/2005 | 139,473
Castellanos | Loretta | M | Key Biscayne | FL | DEN | 2/3/2014 | 264,343
Castro | Henry | G | Corpus Christi | TX | CHM | 5/20/2004 | 54,055
Caulkins | Robert | M | Shrewsbury | MA | MED | 8/5/2004 | 491,128
Cha | Chris | S | Garden Grove | CA | DEN | 11/12/1999 | 328,352
Chalgujian | Hilda | A | Palm Desert | CA | CPY | 5/16/2011 | 140,162
Chen | Syng-Fu | F | Pls Vrds Pnsl | CA | MED | 5/20/2004 | 52,655
Cheney | Julian | L | Reseda | CA | CHM | 1/21/1998 | 8,863
Choe | Kevin | K | Lakewood | CA | CHM | 1/21/1998 | 14,082
Choi | Seong | Y | Diamond Bar | CA | DEN | 3/1/1999 | 153,124
Christian | Roy | P | Saratoga | CA | DEN | 7/6/2012 | 68,274
Christiansen | John | C | Taylorsville | UT | CHM | 5/19/2009 | 80,706
Clark | Garth | A | Humble | TX | MED | 8/10/2001 | 141,391
Cleere | Carrol | E | Tulsa | OK | CHM | 1/21/1998 | 222,263
Clifton | Rhea | S | Dallas | TX | CHM | 8/5/2004 | 8,379
Cline | Sherri | L | Sylmar | CA | OST | 1/21/1998 | 13,253
Clouse | William | J | San Antonio | TX | POD | 3/1/1999 | 215,811
Coate | Linda |  | Reno | NV | CHM | 11/9/2010 | 175,728
Cobrin | Bettina | B | Marina Del Rey | CA | CPY | 1/21/1998 | 255,345
Coleman JR | Harold | J | Tacoma | WA | DEN | 5/16/2011 | 269,018
Collier | George | R | Ponderay | ID | DEN | 1/21/1998 | 275,006
Collier | William | F | Sandpoint | ID | CHM | 1/21/1998 | 229,587
Collins JR | Gail | W | Fullerton | CA | OPT | 3/1/1999 | 33,320
Connaughton | Edward | M | Hermosa Beach | CA | CHM | 8/12/2016 | 39,098
Connor | Kenneth | J | Newport Beach | CA | CHM | 11/7/2001 | 80,438
Conway | Walter | A | Sanford | FL | DEN | 5/16/2011 | 207,156
Cook | Ian | K | Christiansted | VI | POD | 2/8/2017 | 175,572
Cook | Karen |  | Sedona | AZ | CHM | 7/6/2012 | 467,828
Cooke | Courtney | W | Studio City | CA | CHM | 5/18/2010 | 47,520
Coombs | Timothy | R | Anaheim | CA | CHM | 5/15/2000 | 116,126
Cooney | Carey | E | Eugene | OR | DEN | 1/21/1998 | 41,996
Coonts | Terry | A | Eldorado Springs | MO | CHM | 2/17/2000 | 31,340
Cooper | April | D | Hazel Crest | IL | MED | 1/21/1998 | 444,062
Corcoran | Jamie | M | New York | NY | DEN | 4/24/1998 | 518,968
Cothran | Lonnie | A | Shady Point | OK | CHM | 11/12/1999 | 231,237
Cox | Michael | A | Oakland | CA | CHM | 11/15/2005 | 25,521
Cummins | David | F | St Michael Barbados | FC | DEN | 1/21/1998 | 149,932
Curtin | Michael | M | Fairfax | CA | CHM | 1/21/1998 | 36,462
Cutts | David | P | Temecula | CA | DEN | 1/21/1998 | 202,054
Danchisin | Drew | M | Oakland | CA | CHM | 5/16/2011 | 120,592
Daniels | Peter | J | San Jose | CA | CHM | 2/20/2007 | 97,949
Danielsdixon | Darlene | T | Bloomfield Hills | MI | DEN | 9/24/2014 | 194,818
Darrow | Victoria | L | Boca Raton | FL | CHM | 11/26/2012 | 132,598
Davalos | Steven | M | Carmel Valley | CA | CHM | 8/1/2000 | 50,364
Davidson | Blake | L | Richardson | TX | CHM | 8/5/2004 | 49,395
Davis | Mary | L | Ypsilanti | MI | OPT | 3/1/1999 | 71,678
Davisson | Mark | J | Napa | CA | CHM | 3/1/1999 | 63,532
Davitiashvili | Nodari |  | Rego Park | NY | DEN | 11/12/2013 | 153,007
De Jesus-Miranda | Luis | A | Fajardo | PR | OPT | 5/14/2002 | 104,273
Deck | Robert | E | Crowley | TX | CHM | 2/14/2013 | 58,470
Deleonardis | Michael | S | Houston | TX | MED | 8/10/2001 | 112,440
Demaria | Lynn | A | Albany | NY | MED | 2/2/2018 | 79,431
Dennis | Gwenda | B | Aliso Viejo | CA | MED | 5/14/2016 | 130,868
Densmore | Robert | D | Tampa | FL | CHM | 8/17/2007 | 49,331
Derbonne | John | R | Lake Jackson | TX | CHM | 9/24/2014 | 47,152
Dewitt | Eldon | L | Palm City | FL | CHM | 2/5/2009 | 136,872
Dhaliwal | Emaline | K | Riverside | CA | CHM | 1/21/1998 | 16,202
Diaz | James | A | Redwood Valley | CA | CHM | 8/22/2017 | 15,049
Diesen | James | D | Jacksonville | FL | CHM | 1/21/1998 | 424,985
Difiore JR | William | E | Fountain Valley | CA | CHM | 1/21/1998 | 69,939
Dinh | Michael | K | Mcallen | TX | CHM | 9/24/2014 | 11,745
Ditroia | Frederick |  | Warrington | PA | DEN | 1/21/1998 | 60,913
Dominic | Anthony | J | Manasquan | NJ | MED | 2/15/2002 | 53,174
Dominicis | Beth | A | Lake Arrowhead | CA | CHM | 2/1/2001 | 26,090
Doom | Randolph | H | Murrells Inlet | SC | CHM | 8/17/2012 | 153,389
Dorian | Saro | S | Glendale | CA | CHM | 11/7/2001 | 35,408
Dructor | James | D | Pittsburgh | PA | MED | 8/10/2001 | 68,756
Dudley | Raynold | R | Houston | TX | PHA | 1/21/1998 | 113,654
Dungan | Kim | V | Fort Lauderdale | FL | CHM | 11/14/2007 | 116,348
Dupuis | Kenneth | J | Orono | ME | CHM | 5/14/2002 | 185,691
Durham | Ricky | L | Houston | TX | CHM | 1/21/1998 | 235,063
Dwight | Benton | J | Albuquerque | NM | PHA | 7/26/2018 | 19,191
Dykeman | Peter | J | Hawthorne | CA | CHM | 1/21/1998 | 130,989
Elbayar | Nader | K | Port Washington | NY | POD | 1/21/1998 | 146,871
Elder | Terry | M | Glendale Heights | IL | CHM | 8/1/2000 | 285,346
Eli | Desiree | D | Soquel | CA | CHM | 1/21/1998 | 76,131
Ellis | Mark | S | Miami | FL | POD | 2/17/2000 | 131,222
Emerson | Edwin | A | Selden | NY | CHM | 1/21/1998 | 230,297
Engel | Rob | L | Garden Grove | CA | CHM | 2/17/2000 | 28,928
Ensminger | Aletha | M | Carmichael | CA | DEN | 11/9/2010 | 98,256
Epstein | Judy | J | Carlsbad | CA | CPY | 2/17/2000 | 157,799
Eslao | Caesar | G | Carson | CA | DEN | 1/21/1998 | 155,211
Esmailbeigui | Babak |  | Pacific Palisades | CA | DEN | 9/24/2014 | 9,895
Etienne | Fernande |  | West Palm Beach | FL | POD | 5/11/2006 | 169,876
Etumnu | Patrick | C | Houston | TX | CHM | 9/24/2014 | 28,338
Evans | William | L | Spring | TX | CHM | 9/24/2014 | 96,900
Fabricant | Michael | J | Fort Lauderdale | FL | CHM | 1/21/1998 | 244,115
Fair | David | F | Knoxville | TN | CHM | 3/1/1999 | 144,068
Falkinburg | Rory | D | Point Pleasant Boro | NJ | CHM | 7/26/2018 | 88,644
Fallman | James | M | Victorville | CA | CHM | 5/15/2000 | 50,055
Falth-Vanvollenhoven | Annika | M | San Francisco | CA | MED | 3/1/1999 | 135,313
Fanizzi | Thomas |  | Brightwaters | NY | POD | 4/24/1998 | 496,827
Farris | Farral | W | Wichita Falls | TX | CHM | 5/15/2000 | 64,596
Fayazfar | Mitra |  | Oak Park | CA | CHM | 11/7/2001 | 28,943
Feinman | Brian | M | Tampa | FL | POD | 2/20/2007 | 723,646
Fenton | Mark | A | Van Nuys | CA | CHM | 5/11/2006 | 97,464
Fiore | James | P | Santa Ana | CA | CHM | 8/10/2001 | 70,010
Fletcher | Leonard | G | Corona | CA | MED | 8/21/2015 | 74,818
Flores | Otto | O | Antario | CA | CHM | 1/21/1998 | 171,824
Fluck | Dennis | W | New Tripoli | PA | OST | 10/30/2003 | 296,668
Flunker | Edward | J | Houston | TX | CHM | 8/12/2016 | 13,287
Ford | Thomas | M | Yorba Linda | CA | CHM | 2/1/2001 | 19,208
Formaker | James | W | West Hollywood | CA | DEN | 1/21/1998 | 107,683
Fox | Carl | A | Dana Point | CA | CHM | 5/11/2005 | 112,315
Franco | Michael | G | Glendale | CA | MED | 3/3/2015 | 211,960
Francus | Irwin | N | East Northport | NY | CHM | 4/24/1998 | 424,063
Franks | Michael | A | Wharton | TX | CHM | 9/24/2014 | 28,047
Fridrick | Tim | P | Las Vegas | NV | CHM | 1/21/1998 | 67,142
Friedman | Marc | H | Huntington Beach | CA | POD | 8/12/2016 | 56,045
Frigard | Scott | N | Marietta | GA | CHM | 1/21/1998 | 7,232
Fulton | William | C | Oakland | CA | CPY | 11/7/2001 | 78,029
Funcia | Ana | T | Miami | FL | DEN | 2/1/2001 | 200,576
Gaber | Alan | M | Levittown | PA | DEN | 5/14/2002 | 59,493
Gain | John | J | Wilmington | DE | MED | 5/2/2003 | 347,905
Galliher | Jack | T | Brea | CA | OPT | 11/7/2001 | 3,520
Gallucci | Don | A | Malden | MA | DEN | 3/1/1999 | 148,868
Gasso | Joaquin | A | Hialeah | FL | CHM | 1/21/1998 | 262,093
Gaydos | Richard | F | Fontana | CA | CHM | 11/7/2001 | 67,231
Gdula | William | J | Brookline | MA | MED | 5/16/2011 | 18,724
Genna | Stephen | A | Bayville | NY | DEN | 7/26/2018 | 39,775
Ghalbi | Abdollnasser |  | Santa Ana | CA | CHM | 5/14/2002 | 39,769
Gifford | Craig | P | Keller | TX | DEN | 2/17/2000 | 103,506
Gilyot | Glenn | D | New Orleans | LA | DEN | 2/15/2002 | 301,766
Giorgio | Stephen | R | Middle Island | NY | CHM | 7/26/2018 | 25,427
Gipson | Bruce | C | Easton | PA | CHM | 5/14/2016 | 25,533
Giventer | Alex |  | Los Angeles | CA | CHM | 5/16/2011 | 69,946
Glick | Stanley | B | Pasadena | CA | OPT | 1/21/1998 | 7,072
Gloshinski | Laura | E | Lakeland | FL | CHM | 1/21/1998 | 146,266
Goldbeck | Donald | E | Woodland Hills | CA | CHM | 8/12/2016 | 99,442
Gomes | Steven | P | Santa Rosa | CA | CHM | 4/24/1998 | 51,562
Gomez | Meneleo | P | Glendale | CA | DEN | 5/15/2000 | 279,168
Gonzalez | Maria | E | East Rockaway | NY | DEN | 5/15/2000 | 73,671
Goodman | William | D | Thorp | WI | DEN | 1/21/1998 | 32,914
Goodwin | Randall | J | Satanta | KS | CHM | 7/6/2012 | 103,679
Gosa-Kersee | Angela | J | Chicago | IL | DEN | 3/1/1999 | 278,716
Gottschling | Carl | F | Cleveland | OH | MED | 11/7/2001 | 153,772
Grant | Terry | E | Hempstead | NY | DEN | 2/1/2001 | 77,076
Gray | David | M | San Francisco | CA | POD | 3/2/2004 | 68,566
Greeno | Vincent | A | Bolton | MA | CHM | 2/28/2005 | 61,130
Greeson-Cargioli | Leisa | A | Noblesville | IN | CHM | 7/26/2018 | 36,314
Gregory | Thomas | M | Brentwood | NY | CHM | 8/22/2017 | 333,793
Gregory | Todd | A | Pismo Beach | CA | CHM | 1/21/1998 | 52,281
Gregson | Randall |  | Kailua | HI | CHM | 8/22/2017 | 95,606
Grenier | Paul | S | Viroqua | WI | CHM | 8/9/2010 | 51,904
Grobes | Preston | R | Newport News | VA | PHA | 7/26/2018 | 2,798
Grob-Mick | Renee | J | Dover | DE | MED | 5/31/2018 | 39,307
Grossman | Brian | W | Tulra | CA | CPY | 8/12/2016 | 92,891
Gulas | Carl | M | Los Gatos | CA | CHM | 11/18/2011 | 42,324
Gulla | Peter | B | Colorado Springs | CO | CHM | 11/17/2009 | 17,102
Gutierrez | Celso |  | Arlington | TX | CHM | 8/12/2016 | 28,724
Guyer | Larry | G | Santa Rosa | CA | CHM | 11/7/2001 | 42,653
Gyaami | Opanin |  | Vacaville | CA | DEN | 8/5/2004 | 400,658
Hahn | Peter | S | Placentia | CA | CHM | 1/21/1998 | 40,778
Haines | Steven | M | Jackson | NJ | CHM | 3/1/1999 | 58,506
Hall | Pamela | A | Fort Lauderdale | FL | CPY | 8/17/2007 | 196,708
Hamilton | Cynthia | R | Chino Hills | CA | MED | 5/16/2011 | 40,585
Hampton | Jubal |  | Long Beach | CA | POD | 11/12/1999 | 105,386
Hankins | Dean | G | Anaheim | CA | CHM | 8/12/2016 | 93,346
Hankins | Douglas | A | Anaheim | CA | CHM | 8/22/2017 | 56,937
Hansen | Kristen | T | Washington | UT | CHM | 2/6/2003 | 115,447
Harness-Lewis | Donita | M | Bainbridge | GA | CPY | 2/17/2000 | 57,757
Harp | Richard | B | Hacienda Heights | CA | CHM | 8/10/2011 | 24,380
Harris | Conrad | W | Washington | DC | DEN | 1/21/1998 | 130,076
Harrison | Rodney | B | Claremont | CA | DEN | 5/19/2009 | 433,772
Hashemi | Keyvan |  | San Jose | CA | DEN | 1/19/2017 | 59,076
Hasley | Steven | J | Melbourne | FL | CHM | 2/28/2005 | 76,910
Hassid | Sharona | H | Great Neck | NY | DEN | 7/26/2018 | 30,989
Hatfield | Brian | L | Brentwood | CA | CHM | 1/21/1998 | 58,153
Haygood | Regina | J | Brooklyn | NY | POD | 4/24/1998 | 193,113
Hazelwood III | Harry | H | Daytona Beach | NJ | PUB | 3/1/1999 | 302,153
Heckler | Rodney | R | Wheaton | IL | CHM | 11/15/2005 | 23,493
Hempsey | William | C | North Hollywood | CA | CHM | 1/21/1998 | 112,753
Henderson | Charles | A | Baltimore | MD | POD | 8/22/2017 | 45,579
Hennell-Larue | Renata | A | Mapleton | OR | CHM | 9/24/2014 | 40,332
Hernandez | Agapito |  | Mcallen | TX | CHM | 11/7/2001 | 190,829
Hernandez | Orestes | M | Los Angeles | CA | CHM | 1/21/1998 | 86,997
Herrera | Diego | F | Long Island City | NY | DEN | 8/5/1999 | 296,505
Hibbert | Harold | H | Mountain View | CA | MED | 11/2/2000 | 28,679
Ho | Wook |  | Los Angeles | CA | DEN | 3/1/1999 | 55,937
Hoang | Dat | T | Anaheim | CA | MED | 8/12/2016 | 74,582
Hobowsky | Martin | R | South Charleston | OH | OST | 11/9/2010 | 239,874
Hoehn | James | D | Thousand Oaks | CA | DEN | 1/21/1998 | 76,578
Hoffman | Stuart |  | Venice | CA | CHM | 8/12/2016 | 21,599
Holt | Kenneth | G | Sun City | CA | CHM | 1/21/1998 | 144,022
Holzer | Richard | M | Glendale | AZ | CHM | 8/17/2007 | 158,389
Hopkins | Keith | T | Kissimmee | FL | CHM | 1/21/1998 | 13,066
Horsley | Ronald | G | Yulee | FL | CHM | 1/21/1998 | 93,491
Hough JR | Reginio | T | Lancaster | CA | CHM | 8/1/2000 | 47,579
Howell | Ralph | G | Medford | OR | CHM | 11/7/2001 | 233,195
Hungerford | Richard | D | Portola | CA | CHM | 1/21/1998 | 85,956
Hunt | Richard | D | Pasadena | CA | CHM | 2/15/2002 | 147,452
Hunter | Donald | E | Fairborn | OH | CHM | 5/19/2009 | 75,825
Hush | George | G | Rose City | MI | CHM | 1/21/1998 | 104,317
Ichiuji | Arnold | T | Salinas | CA | DEN | 8/10/2001 | 110,841
Iglesias | Gerald | J | Pleasant Hill | CA | DEN | 11/26/2012 | 120,234
Iliou | Claude | B | Punta Gorda | FL | MED | 8/16/2006 | 24,411
Ionova-Zalivchy | Irina | I | Brooklyn | NY | DEN | 7/26/2018 | 68,222
Iqal | Robert | S | Claremont | CA | PHA | 1/21/1998 | 19,898
Israelsen | John | A | Logan | UT | DEN | 8/1/2000 | 287,801
Ito | Stephen | M | Menifee | CA | CHM | 4/24/1998 | 143,647
Jackson | Francesca | A | San Francisco | CA | CHM | 4/24/1998 | 87,854
Jackson | Harold | O | Atlanta | GA | DEN | 5/16/2011 | 54,823
Jacob-France | Elizabeth |  | St Petersburg | FL | CHM | 2/10/2011 | 66,767
Jaimes | Laura |  | Pico Rivera | CA | MED | 7/26/2018 | 34,649
Jansson | Susanne | E | Westhampton Beach | NY | GHA | 1/21/1998 | 116,167
Jeffcoat | Lori | M | Vallejo | CA | CHM | 10/30/2003 | 37,111
Jennifer | Jai |  | Oakland | CA | MED | 7/6/2012 | 58,880
Jewett | Charles | D | Portsmouth | OH | CHM | 1/21/1998 | 104,322
Joergens JR | Donald | W | Staten Island | NY | CHM | 1/21/1998 | 55,390
Johnson | Anthony |  | Detroit | MI | MED | 1/21/1998 | 24,743
Johnson | Eric | D | Folsom | CA | CHM | 1/21/1998 | 362,386
Johnson | Gary | M | Burbank | CA | CHM | 4/24/1998 | 94,978
Johnson | John | B | Pasadena | TX | CHM | 8/12/2016 | 16,731
Johnson | Steven | R | Hillsboro | TN | CHM | 8/1/2000 | 148,776
Kahan | Robert | M | Mission Viejo | CA | CHM | 1/21/1998 | 73,626
Kamel | Luca |  | Canyon Country | CA | MED | 8/12/2016 | 221,857
Kantro | Scott | R | New York | NY | POD | 8/16/2006 | 387,914
Katz | Steven | M | Sherman Oaks | CA | CHM | 8/10/2001 | 192,638
Kaufmann | Todd | S | Corte Madera | CA | CHM | 8/5/1999 | 136,458
Kea | Rattana | D | Highland | CA | DEN | 11/7/2001 | 193,190
Keeler-Jones | Dawn | M | Port Saint Lucie | FL | CHM | 5/14/2002 | 80,649
Keenan | John | M | Watertown | NY | CHM | 2/5/2009 | 50,675
Kellenberger | Steven | L | Elgin | IL | CHM | 5/31/2018 | 8,598
Kelly | Mark | S | Pomona | CA | CHM | 1/21/1998 | 64,610
Kelly | Paul | D | Cadillac | MI | CHM | 2/2/2018 | 24,303
Kelly-Soluri | Laura |  | Farmingdale | NY | POD | 5/17/1999 | 242,966
Kempis | Richard | A | San Francisco | CA | DEN | 2/17/2000 | 108,424
Kessinger | Charles | W | Key West | FL | CHM | 8/21/2015 | 44,024
Kessler | Bill | R | Fountain Valley | CA | CHM | 8/10/2011 | 43,202
Khalsa | Gururakha | S | Springfield | VA | CHM | 7/31/1998 | 137,355
Khalsa | Har Hari | S | Beverly Hills | CA | CHM | 8/10/2011 | 65,794
Khan | Tariq | A | San Leandro | CA | DEN | 7/6/2012 | 63,644
Kim | Hui Yum |  | Pasadena | CA | DEN | 8/12/2016 | 31,203
Kim | Won Kak |  | Torrance | CA | CHM | 8/12/2016 | 105,017
King | James | H | Washington | DC | DEN | 1/21/1998 | 45,731
King | Susan | M | Apache Junction | AZ | CHM | 9/24/2014 | 189,591
Kirkpatrick | Ira | P | Midland | TX | CHM | 7/26/2018 | 199,344
Kiss | Kathleen | M | Blue Point | NY | CHM | 1/21/1998 | 128,174
Klapper | Gerald | P | Hollywood | FL | POD | 2/11/2008 | 52,655
Klejnot | Timothy | A | Marietta | GA | CHM | 1/21/1998 | 222,670
Knight | Patricia | A | Bayport | NY | CPY | 1/21/1998 | 92,266
Ko | Joo | H | Marina | CA | CHM | 4/25/2014 | 19,555
Kosmides | George | K | Hilo | HI | CHM | 7/30/2013 | 60,137
Koukeh-Sackett | F | M | San Bernardino | CA | CHM | 1/21/1998 | 145,111
Kowalski | Brian | A | Irvine | CA | CHM | 8/21/2015 | 27,599
Kralj | Mladen | M | Chicago | IL | DEN | 4/24/1998 | 544,833
Krichevsky | Rita | A | Newtown | PA | MED | 2/2/2018 | 136,535
Krystosik | James | D | Streetsboro | OH | CHM | 11/9/2006 | 239,602
Kunen | Frederick | J | Miami | FL | MED | 3/1/1999 | 187,512
Kushner | William Iii |  | Danville | CA | DEN | 5/9/2007 | 47,220
Kyprie | Warren |  | Boca Raton | FL | CPY | 2/14/2012 | 80,756
Lafleur | Allen | R | Hull | MA | CHM | 3/1/1999 | 434,565
Lamb | Robert | D | Sebastopol | CA | CHM | 1/21/1998 | 185,014
Lampman | Chuck | D | Sylmar | CA | CHM | 1/21/1998 | 259,216
Lancaster | Barry | D | Marietta | GA | CHM | 1/21/1998 | 136,496
Landou | Lissa | S | Belleville | NJ | CHM | 5/14/2002 | 203,365
Langham | Mary | L | Talkeetna | AK | OST | 5/19/2009 | 528,405
Lauffer | Mark | A | Mineral Point | PA | CHM | 5/16/2011 | 87,387
Lawton | Michael | D | Tustin | CA | MED | 11/12/1999 | 230,993
Le | Kenneth | N | Camarillo | CA | PHA | 8/22/2017 | 26,667
Lee | Steve | Y | Livingston | NJ | DEN | 8/10/2001 | 91,126
Lent | Rosella | M | Nahant | MA | CHM | 8/11/2005 | 229,618
Leonor | Lillian |  | Riverside | CA | DEN | 8/10/2011 | 46,809
Lester | Robert | C | Waxahachie | TX | CHM | 2/17/2000 | 65,171
Leung | Leo | S | Woodside | NY | CHM | 1/21/1998 | 208,386
Levin | Nancy | E | Palm Beach Gardens | FL | CHM | 1/21/1998 | 208,443
Lewis | Richard | C | Colorado Springs | CO | CHM | 8/17/2012 | 31,347
Light | David | N | Winter Garden | FL | DEN | 2/28/2005 | 132,908
Lim | Jong | S | Elmhurst | NY | DEN | 11/12/2013 | 156,598
Lippay | Ronald | W | Fresno | CA | CHM | 10/30/2003 | 71,688
Lipschutz | Robert | B | Philadelphia | PA | POD | 2/1/2006 | 137,733
Little | Carlton | E | Chicago | IL | MED | 11/12/2013 | 299,161
Littleton | Charles | R | Edmond | OK | DEN | 7/31/1998 | 1,044
Lodwig | Michael | J | Walnut Creek | CA | CHM | 1/21/1998 | 51,809
Lopez | Luis |  | Cathedral City | CA | CHM | 5/7/2013 | 210,714
Lottie | Mark | E | Covina | CA | CHM | 8/21/2015 | 110,167
Lovelace | George | E | Flatwoods | KY | DEN | 2/17/2000 | 27,440
Lowry-Brooks | Paulette | M | Summerville | SC | CHM | 1/21/1998 | 210,996
Lucero | Lucky | E | San Bernardino | CA | DEN | 4/25/2014 | 80,634
Lunceford | Glenn | W | Norco | CA | CHM | 1/21/1998 | 55,707
Luta | Patricia | L | Santa Rosa | CA | CHM | 2/17/2000 | 90,749
Ly | Hoang | X | Garden Grove | CA | OPT | 8/12/2016 | 42,595
Maghloubi | Seyed | M | Pacific Palisades | CA | CHM | 8/12/2016 | 40,608
Major | David | C | Whittier | CA | CHM | 8/12/2016 | 10,957
Mannino | Guy | C | North Pole | AK | CHM | 3/1/1999 | 335,612
Manriquez JR | Antonio | M | Coachella | CA | CHM | 5/11/2005 | 106,468
Manvel | Barry | J | Napa | CA | CHM | 7/31/1998 | 37,906
Marcel | Perry | L | Alvarado | TX | DEN | 11/12/2013 | 175,395
Marcus | Alex |  | Orlando | FL | CHM | 2/10/2011 | 114,635
Marquez | Evelyn | W | Reseda | CA | CPY | 2/28/2005 | 139,123
Martin JR | John | W | Zephyrhills | FL | CHM | 1/21/1998 | 231,173
Marts | Richard | A | Los Angeles | CA | CHM | 11/12/1999 | 93,653
Mattison Coleman | Sharri | L | Oklahoma City | OK | POD | 5/19/2009 | 613
Mattson | James | A | Berkeley | CA | OST | 11/7/2001 | 173,088
Maxfield-Brown | Bobbi | L | Evansville | IN | CHM | 1/21/1998 | 633,422
Mays-Good | Kathryn | M | Tarzana | CA | CHM | 1/21/1998 | 325,946
Mazhar | Mark |  | Los Angeles | CA | CHM | 8/11/2005 | 124,055
McAdams | Glen | R | Spring | TX | CHM | 3/1/1999 | 230,270
McAlees | Raymond | M | North Palm Beach | FL | CHM | 11/12/1999 | 234,058
Mcatamney | John | P | Garden City | NY | CHM | 11/9/2010 | 26,861
McCallum III | Ronald | D | Sunnyvale | CA | CHM | 5/20/2004 | 21,788
McClure | Brian | C | Daytona Beach | FL | DEN | 1/21/1998 | 14,437
McCombs | Martin |  | Long Beach | CA | CPY | 11/12/1999 | 261,214
McConner | Sadie | B | Daytona Beach | FL | POD | 1/21/1998 | 75,196
McElhinney | Thomas | E | Saint Augustine | FL | CHM | 1/21/1998 | 1,066,703
McGee | Billie | J | Simi Valley | CA | CHM | 1/21/1998 | 126,684
Mcghee | Stephanie | Y | La Marque | TX | CHM | 5/19/2009 | 41,064
Mckay | Kevin | J | Dallas | TX | CHM | 11/10/2004 | 69,894
Mcmahan | Gregory | E | Anaheim | CA | DEN | 11/18/2011 | 30,444
McMorris | Bruce |  | Long Beach | CA | CHM | 11/12/1999 | 163,115
McRoberts | Lynne | S | Ontario Canada | FC | CHM | 1/21/1998 | 97,601
Meade | Madeline | M | Cleveland | OH | DEN | 1/21/1998 | 69,119
Meadors | David | M | Mcallen | TX | CHM | 8/12/2016 | 25,658
Meggs | Carl | M | Belize | FC | DEN | 8/15/2003 | 104,026
Melendez | Angelina |  | Bronx | NY | POD | 5/19/2009 | 285,767
Melker | Neil | L | Princeton | NJ | DEN | 5/19/2009 | 225,871
Menezes | Michael | H | Tampa | FL | DEN | 2/10/2011 | 201,270
Mihalakis | Georgia |  | Bronx | NY | OST | 1/21/1998 | 449,158
Milanes-Scott | Barbara | J | Northridge | CA | MED | 1/21/1998 | 208,784
Milgram | Roman |  | Brooklyn | NY | DEN | 1/19/2017 | 44,481
Miller | Brad | T | Costa Mesa | CA | CHM | 1/21/1998 | 21,694
Miller | Bradley | G | Beverly Hills | CA | MED | 1/21/1998 | 93,438
Miller | Gaylon | D | Bixby | OK | CHM | 2/14/2012 | 96,115
Millon | Jeffrey | M | Lithonia | GA | MED | 1/21/1998 | 180,320
Mitchell | Warren | A | Yucaipa | CA | DEN | 8/1/2000 | 426,551
Mizell | William | L | Los Lunas | NM | OST | 8/12/2016 | 256,075
Moarefi | Mahmdud | R | Los Angeles | CA | CHM | 2/17/2000 | 71,437
Mohammadkhani | Alireza | D | Chatsworth | CA | CHM | 8/11/2005 | 59,164
Moler | Amy | M | Westerville | OH | MED | 8/22/2017 | 18,925
Moore | Scott | P | Citrus Heights | CA | CHM | 2/20/2007 | 30,988
Moore | Thomas | A | Gray | ME | CHM | 3/1/1999 | 188,500
Morita | Phuong | T | Irvine | CA | CHM | 3/1/1999 | 111,428
Moroney | Raymond | A | Venice | CA | CHM | 8/12/2016 | 98,073
Moroney | William | P | San Mateo | CA | CHM | 4/24/1998 | 72,586
Morrone | Mark | J | Los Angeles | CA | DEN | 7/31/1998 | 216,989
Moulds JR | Dan | R | Chattanooga | TN | DEN | 2/1/2001 | 202,841
Mouton | Marsha | E | Los Angeles | CA | MED | 1/21/1998 | 101,134
Muecke | Lee | N | Houston | TX | MED | 8/12/2016 | 5,181
Muenker | Mark | E | San Francisco | CA | CHM | 7/31/1998 | 266,158
Mullinax | Jeffrey | S | Windsor | CA | CHM | 5/11/2005 | 27,238
Munoz | Luis | R | Chicago | IL | MED | 11/12/2013 | 560,178
Murphy | John | P | Black Earth | WI | CHM | 7/6/2012 | 47,152
Murphy | Marc | A | Rancho Santa Margar | CA | CHM | 1/21/1998 | 146,477
Murphy | Richard | N | North Bergen | NJ | CHM | 1/21/1998 | 1,245,670
Myers | Karen | A | Redondo Beach | CA | MED | 10/30/2003 | 216,569
Myers | Michael | D | San Rafael | CA | CPY | 7/6/2012 | 49,305
Nagel | Douglas |  | Herndon | VA | CHM | 8/12/2016 | 43,753
Nappi | Neil | A | West Palm Beach | FL | CHM | 3/1/1999 | 205,028
Nason | Christian | W | Holly Springs | NC | CHM | 5/18/2010 | 93,971
Nasseri | Amir Abbas |  | Santa Ana | CA | MED | 5/31/2018 | 21,960
Navai | Mehdi | N | Alhambra | CA | CHM | 1/21/1998 | 388,527
New | Richard | A | Conway | SC | CHM | 2/14/2013 | 91,692
Newsome | Dorita |  | Livingston | NJ | DEN | 5/19/2009 | 63,667
Newsome | Raymond | E | Desoto | TX | CHM | 11/2/2002 | 220,828
Nguyen | Anh |  | Sacramento | CA | DEN | 11/18/2011 | 31,857
Nguyen | Charlene | D | La Habra | CA | CHM | 5/7/2013 | 33,703
Nguyen | Ho | H | La Puente | CA | CHM | 11/18/2011 | 133,702
Nguyen | Michael | M | Milpitas | CA | MED | 11/9/2006 | 52,821
Nguyen | Tuan | H | Fountain Valley | CA | OST | 11/12/2013 | 157,998
Nichols | Victoria | G | Encinitas | CA | CPY | 8/12/2016 | 11,586
Nieman | Edward |  | Riverside | CA | CHM | 2/1/2001 | 109,036
Ninomiya | Jesse | K | Honolulu | HI | DEN | 5/17/2001 | 159,504
Nipper-Collins | Kristie | L | Lutz | FL | OST | 2/10/2011 | 42,269
Nkuku | Christopher | N | Berkeley | IL | MED | 5/17/2001 | 69,741
Nnokam | Kennedy | I | Jasper | TX | PUB | 9/24/2014 | 58,351
Nolasco | Elizabeth | R | Brooklyn | NY | MED | 11/12/2013 | 18,148
Norville | Michael | T | Costa Mesa | CA | CHM | 1/21/1998 | 182,616
Ocon | Luis | E | Salinas | CA | CHM | 10/30/2003 | 12,120
Ofor | Chukwu | E | Houston | TX | OPT | 8/12/2016 | 45,784
Olajide | Gbolahan | A | Los Angeles | CA | CHM | 5/19/2009 | 319,617
Olberg | Gregory | S | Hayward | CA | CHM | 3/1/1999 | 110,778
Oliver | John | A | Plainfield | NJ | POD | 1/21/1998 | 8,875
Olynik | Christopher |  | Brooklyn | NY | DEN | 5/3/2016 | 166,887
Owens | Gregory | A | Claremore | OK | CHM | 1/21/1998 | 60,584
Owens | James | R | Evans | GA | CHM | 1/21/1998 | 20,237
Pacheco | Carlos | A | Mcallen | TX | MED | 9/24/2014 | 31,778
Padilla-Torres | Carlos |  | Ponce | PR | OPT | 5/31/2018 | 24,895
Palmer | Becky | A | Fallbrook | CA | CHM | 1/21/1998 | 193,613
Palmer | Richard | M | Thousand Oaks | CA | CHM | 3/1/1999 | 242,663
Palmer-Mitchell | Donna | C | Huntington Beach | CA | POD | 1/21/1998 | 132,817
Pankey | John |  | Alameda | CA | CHM | 8/5/2004 | 144,978
Paranich | Stephen | R | Old Forge | PA | CHM | 2/2/2018 | 3,667
Parkin | Dianne | E | Houston | TX | MED | 9/24/2014 | 20,057
Parsa-Forspte | Sepideh |  | San Clemente | CA | CHM | 11/18/2011 | 46,651
Patterson JR | Arthur | E | Holmdel | NJ | CHM | 9/24/2014 | 56,929
Paunovic | Susan | J | Hopewell Jct | NY | DEN | 11/2/2000 | 13,072
Peerenboom-Grenier | Paula | J | Viroqua | WI | CHM | 11/7/2001 | 48,183
Pennington | Bradley | R | Denver | CO | CHM | 5/31/2018 | 31,475
Perez | Daysi | E | New York | NY | CHM | 4/24/1998 | 147,088
Perlmutter | Mark | A | Ann Arbor | MI | CHM | 2/23/2010 | 78,970
Perrault | Mark | D | Culver City | CA | MED | 5/19/2009 | 128,778
Perry | John | E | Houston | TX | MED | 9/24/2014 | 56,731
Petrosky | Michael | J | Mandeville | LA | CHM | 4/24/1998 | 271,051
Pham | Nghi | D | Fountain Valley | CA | CHM | 1/21/1998 | 110,633
Pham | Vinh | H | Fountain Valley | CA | DEN | 5/17/2001 | 251,765
Philipson | David |  | Huntington Beach | CA | CHM | 11/12/1999 | 173,013
Phillips | Brian |  | Prospect | KY | CHM | 5/11/2006 | 263,077
Pierson | Steven | R | Minneapolis | MN | CHM | 8/17/2007 | 104,184
Pigott | Abu | G | Alameda | CA | CHM | 11/12/2013 | 81,472
Pinson | Jeffrey | R | El Paso | TX | CHM | 11/12/1999 | 110,357
Podry | Robert | J | La Canada Flintridg | CA | CHM | 1/21/1998 | 134,540
Ponder III | Alvin | F | Brooklyn | NY | MED | 1/21/1998 | 200,435
Porter | Jacqueline | R | Washington | DC | POD | 1/21/1998 | 160,478
Potok | Leonard | A | Brooklyn | NY | DEN | 3/1/1999 | 96,627
Potts | David | A | Pasadena | TX | CHM | 9/24/2014 | 30,787
Powell | Carlton | F | Elkins Park | PA | DEN | 1/21/1998 | 131,005
Powers | Thomas | P | Oklahoma City | OK | CHM | 2/15/2002 | 16,662
Pratt | Kerrie | G | Los Angeles | CA | CHM | 7/6/2012 | 57,307
Price | Steven | V | Los Angeles | CA | DEN | 1/21/1998 | 3,831
Prindle-Bush | Sharon | M | Brighton | CO | DEN | 11/9/2010 | 4,098
Pritchard | Doyle | P | El Centro | CA | CHM | 11/7/2001 | 31,380
Prom | Van | S | Modesto | CA | CHM | 8/22/2017 | 67,053
Pulli | Louise | A | Perkiomenville | PA | CHM | 8/22/2017 | 6,249
Puryear | Cheryll | D | Houston | TX | CHM | 2/17/2000 | 190,998
Pust | Keith | W | Lake Elsinore | CA | CPY | 1/21/1998 | 116,964
Quirke | Clement |  | Venice | FL | POD | 2/8/2017 | 212,772
Radetic | Peter | M | Bay Point | CA | CHM | 11/17/2009 | 131,550
Radtke | Joseph | D | Pueblo | CO | OST | 9/24/2014 | 76,865
Ramirez | Richard | R | Houston | TX | CHM | 2/28/2005 | 39,005
Ramu | Nalaya |  | Beaumont | CA | DEN | 5/14/2002 | 96,702
Rappa | Richard | J | North Haven | CT | CHM | 5/11/2005 | 68,304
Rashti | Kouros |  | Tarzana | CA | DEN | 5/14/2002 | 289,080
Ratliff | Cynthia |  | Santa Cruz | CA | CHM | 2/1/2006 | 274,262
Ravinski | Deborah | G | Plymouth | MA | CHM | 8/12/2016 | 6,566
Rayas-Felix | Magdalena |  | Los Angeles | CA | CHM | 1/21/1998 | 67,038
Reddick | David | J | Fort Lauderdale | FL | MED | 11/14/2007 | 147,479
Reese-Thurmond | Elaine | M | Dixmoor | IL | MED | 1/21/1998 | 150,439
Renz | Howard | W | Astoria | NY | CHM | 1/21/1998 | 86,875
Rey | Jorge | E | Chino | CA | CHM | 2/1/2001 | 36,279
Reyes | Danniell | J | Bethlehem | PA | CHM | 7/6/2012 | 143,461
Rhine | Cecil | T | Lawrenceville | GA | CHM | 1/21/1998 | 99,100
Ribera | Alfred | R | Miami | FL | CHM | 3/1/1999 | 239,123
Rice | William | M | Malden | MA | CHM | 8/5/1999 | 172,766
Richardson | Joseph | M | Silver Spring | MD | DEN | 1/21/1998 | 717,037
Richardson | Justin | W | Porter Ranch | CA | CHM | 1/21/1998 | 5,689
Richardson | Katherine | J | San Francisco | CA | CPY | 7/6/2012 | 406,384
Richichi | Mark | S | Center Moriches | NY | CHM | 2/15/2002 | 169,492
Ritto | Sharlene | M | Corona | CA | POD | 11/12/2013 | 238,550
Robinson | Bruce | K | Jupiter | FL | CHM | 1/21/1998 | 383,397
Robinson | Glenn | R | Dallas | TX | CHM | 3/3/2015 | 116,178
Rodrigues | Paul |  | Cerritos | CA | CHM | 5/19/2009 | 150,288
Rogers | Thomas | C | Santa Ana | CA | CHM | 3/1/1999 | 214,786
Romero | Gloriana | M | Guaynabo | PR | MED | 2/8/2017 | 129,496
Rosenfeld | Jeffre | B | Los Angeles | CA | CHM | 1/21/1998 | 115,602
Roshy | Gary | L | Lake City | FL | CHM | 1/21/1998 | 461,668
Ross | Roger | A | Coraopolis | PA | CHM | 1/21/1998 | 50,642
Rostami | Helena |  | Calabasas | CA | CHM | 5/16/2011 | 33,300
Rothman | Laura | L | Arroyo Grande | CA | CHM | 11/7/2001 | 10,278
Rubinstein | David | M | Fort Lauderdale | FL | CHM | 2/15/2002 | 66,235
Rushing | Gary | W | Matawan | NJ | CHM | 2/15/2002 | 158,803
Russell | Robert | J | Hollywood | FL | CHM | 1/21/1998 | 10,305
Russell | Rosalind | L | Houston | TX | DEN | 3/11/2015 | 2,220
Ryan | Kathleen |  | West Springfield | MA | POD | 5/19/2009 | 122,630
Saadia | Sammy |  | Brooklyn | NY | DEN | 7/30/2013 | 176,274
Sabin | Gregory | M | Colorado Springs | CO | CHM | 8/22/2017 | 74,659
Sainez | Juana | A | Maryland | NY | MED | 2/2/2018 | 98,026
Sainten | Adrienne | C | San Leandro | CA | CHM | 8/26/2009 | 18,069
Saldana-Quinonez | Salvador | S | La Puente | CA | CHM | 7/6/2012 | 37,492
Sambor | David | H | Lockport | NY | DEN | 11/12/1999 | 14,017
Sanborn | Brian | A | Midland | MI | CHM | 11/17/2009 | 116,867
Santa Cruz | Matthew | E | Tampa | FL | CHM | 5/19/2009 | 43,443
Sargent | John | F | Lawndale | CA | CHM | 1/21/1998 | 200,987
Sastre | Armando | A | Cortez | CO | DEN | 11/9/2010 | 121,636
Savage | Robert | L | Harrisburg | PA | DEN | 5/31/2018 | 116,819
Schalk | Ronald | R | Corpus Christi | TX | CHM | 5/14/2016 | 67,089
Schiff | Barbara | S | Woodland Hills | CA | CHM | 2/17/2000 | 121,031
Schow | Kenneth | M | Glendale | CA | CHM | 1/21/1998 | 149,879
Schroder | Anthony | M | Middletown | NY | DEN | 1/21/1998 | 84,414
Schulten | Eric | A | Sarasota | FL | MED | 11/2/2000 | 196,384
Schwartz | Eric | G | Atlantic Beach | NY | DEN | 1/21/1998 | 243,371
Scruggs | Virginia | M | Seneca | SC | OST | 11/26/2012 | 75,002
Scully | Stephen | M | Redondo Beach | CA | CHM | 3/1/1999 | 48,329
Sek | Amaramony | B | Houston | TX | CHM | 8/12/2016 | 22,585
Selko | Robert | L | Novato | CA | CHM | 3/1/1999 | 174,348
Sellitto | Rocco | V | Brooklyn | NY | POD | 8/1/2000 | 249,395
Senatore | Salvatore |  | Kenilworth | NJ | CHM | 11/9/2010 | 141,940
Serratos | Ernesto |  | Crestline | CA | CHM | 1/21/1998 | 125,028
Shahrestani | Shahriar |  | Anaheim | CA | CHM | 3/1/1999 | 52,594
Shanefelter III | Charles | D | San Francisco | CA | CHM | 1/21/1998 | 48,477
Shapiro | Michael | S | Newhall | CA | CHM | 1/21/1998 | 117,401
Shapley | Kevin | N | Concord | CA | CHM | 3/2/2004 | 45,217
Shaw | Linda | J | Gladwyne | PA | DEN | 1/21/1998 | 28,843
Shaw | Michael | G | Inglewood | CA | MED | 1/21/1998 | 106,438
Shear | David | S | Staten Island | NY | CHM | 1/21/1998 | 199,372
Sheehan | Alex | J | West Palm Beach | FL | CHM | 9/24/2014 | 46,153
Sheehy | Daniel | J | Middletown | CA | CHM | 2/28/2005 | 65,592
Shin | Hui-Yong |  | Los Angeles | CA | DEN | 1/21/1998 | 100,004
Shoeleh | Hossien | M | Costa Mesa | CA | DEN | 1/21/1998 | 221,952
Siguenza | Francisco | A | Maspeth | NY | OST | 8/12/2016 | 158,858
Simon | Greg | L | Murrieta | CA | CHM | 1/21/1998 | 206,792
Simpson | Ashley | L | Allston | MA | MED | 2/10/2011 | 278,975
Slusher-Maroudas | Patricia | L | Gilroy | CA | CHM | 11/12/2013 | 10,930
Small | Tammie | J | Smyrna | GA | CHM | 1/21/1998 | 165,845
Smith | Gary | D | Groton | CT | CHM | 1/21/1998 | 52,698
Smith | George |  | Philadelphia | PA | MED | 1/19/2017 | 546,869
Smith | Jessica |  | Downey | CA | CHM | 1/21/1998 | 159,421
Smith | Lee | A | Sterling | VA | CHM | 5/31/2018 | 50,773
Smith | Michael | D | Bethel Park | PA | DEN | 8/5/2004 | 364,436
Smith | Rusty | A | Santa Barbara | CA | CHM | 3/1/1999 | 9,609
Smith | Stacey | D | Malibu | CA | CHM | 8/1/2000 | 159,124
Smukler | Evie | L | Los Angeles | CA | CPY | 1/21/1998 | 36,002
Snavely | Danny | H | San Juan Capistrano | CA | CHM | 8/21/2015 | 292,835
Sokol | Louis | J | Stuart | FL | CHM | 11/12/1999 | 73,809
Sosa | Richard |  | Colton | CA | CHM | 3/1/1999 | 89,589
Soto | Vera | A | Fort Lauderdale | FL | OPT | 5/7/2008 | 21,479
Sparks | Stacey | L | Houston | TX | CHM | 11/26/2012 | 74,313
Spencer | Keivon | J | Cedar Hill | TX | OPT | 8/5/2004 | 6,677
Spicer | Mary | C | Essex Junction | VT | CHM | 7/26/2018 | 14,550
St Juste | Dominique |  | Brooklyn | NY | DEN | 8/1/2000 | 106,856
Staley | Judith | M | Annapolis | MD | CPY | 4/25/2014 | 103,378
Stalker | James | W | Castro Valley | CA | CHM | 2/10/2011 | 15,959
Stanbridge | Gary | R | Whittier | CA | CHM | 2/28/2005 | 66,427
Steder | Sandra |  | San Rafael | CA | CPY | 8/5/2004 | 77,510
Steiner | Jean Marie |  | Sunnyvale | CA | CHM | 5/15/2000 | 20,048
Steinfeld | Audrey | G | Tarzana | CA | CHM | 2/17/2000 | 238,406
Stephens | Charles | N | Milledgeville | GA | CHM | 5/19/2009 | 55,911
Stevenson | Teresa | M | Los Angeles | CA | CPY | 1/21/1998 | 142,275
Stoltz | William | D | Grants Pass | OR | CHM | 5/19/2009 | 284,886
Stone | Steven | D | San Leandro | CA | CHM | 1/21/1998 | 57,796
Street | James | F | Davie | FL | CHM | 11/12/2013 | 84,298
Stricklan | David | K | Haverton | PA | MED | 7/26/2018 | 202,781
Strus | Deborah | A | San Antonio | TX | MED | 11/12/2013 | 118,432
Sullivan | Daniel | B | Fruita | CO | DEN | 5/31/2018 | 4,777
Sullivan | John | M | Corpus Christi | TX | CHM | 8/22/2017 | 115,129
Sullivan | Joseph | C | Burbank | CA | CHM | 1/21/1998 | 126,435
Taylor | Scott | M | Thousand Oaks | CA | DEN | 7/6/2012 | 178,545
Tchakalian | Leon | J | Van Nuys | CA | CHM | 11/7/2001 | 19,263
Teague | Jenette |  | Los Angeles | CA | DEN | 11/7/2001 | 144,932
Tennant | Michael | D | Wheat Ridge | CO | CHM | 11/12/1999 | 92,497
Thomas | Gordon | A | Atlanta | GA | CHM | 1/21/1998 | 210,981
Thomas | Randy | L | Fairbanks | AK | DEN | 4/24/1998 | 221,640
Thomas Sr | Robert | B | Stone Mountain | GA | DEN | 1/21/1998 | 438,554
Thompson | Emma | R | Grenada West Indies | FC | MED | 2/15/2002 | 82,303
Tierney | Richard | W | Atlanta | GA | POD | 8/5/1999 | 395,121
Tindall | Michael | A | Magna | UT | POD | 1/21/1998 | 20,799
Tolbert JR | William |  | Los Angeles | CA | MED | 11/12/2013 | 71,079
Tomlin-Knight | Teresa | L | Manahawkin | NJ | POD | 2/11/2008 | 75,900
Toporovsky | Nathan | A | White Plains | NY | DEN | 2/8/2017 | 21,298
Townsend | Thomas | E | Fortmill | SC | CHM | 4/24/1998 | 10,614
Tramontana | Raul | E | Cincinnati | OH | OPT | 5/14/2002 | 220,103
Tran | Huong | N | Carpinteria | CA | CHM | 8/12/2016 | 58,998
Tran | Ngoc | H | Simi Valley | CA | CHM | 3/1/1999 | 105,356
Tran | Thuan | K | Henderson | NV | DEN | 8/12/2016 | 100,789
Trumbo | Traig | T | Sunland | CA | CHM | 3/1/1999 | 84,963
Tschabrun | Kevin | L | Holdrege | NE | DEN | 3/1/1999 | 125,260
Tumas | Mary | D | Brielle | NJ | CHM | 3/11/2015 | 95,918
Turner | Nancy | A | San Francisco | CA | CHM | 1/21/1998 | 23,856
Ussery | Marvin |  | Los Angeles | CA | DEN | 8/12/2016 | 52,824
Vacula | Nicole | A | Tonawanda | NY | CPY | 8/12/2016 | 61,958
Vafaee | Mohammadali |  | Santa Monica | CA | CHM | 2/28/2005 | 24,360
Vaishvila | Gail | A | Santa Monica | CA | CHM | 8/1/2000 | 223,290
Valde | Jane | D | San Mateo | CA | DEN | 11/9/2010 | 176,977
Valicenti | Patrick | J | Wallkill | NY | DEN | 8/5/2004 | 125,315
Vanrensselaer | Jeffrey | A | Lake Forest | CA | CHM | 4/24/1998 | 98,000
Vardanian | Michael | A | Fullerton | CA | CHM | 1/21/1998 | 110,450
Vega | Javier | J | Rancho Cucamonga | CA | CHM | 8/12/2016 | 48,581
Vernon | Earl | M | Davenport | IA | CHM | 1/21/1998 | 6,469
Vessels | Steven | L | Redlands | CA | CHM | 1/21/1998 | 194,431
Vessey | Ned |  | Arcadia | CA | CHM | 8/1/2000 | 64,848
Villaverde | John | J | Vestavia | AL | MED | 8/22/2017 | 64,563
Villeta | Javier | G | Kissimmee | FL | MED | 3/1/1999 | 311,035
Viloria-Else | Jenifer | A | Los Angeles | CA | CHM | 1/21/1998 | 179,851
Voboril JR | William | R | Carlisle | IA | POD | 8/5/1999 | 36,053
Vosburgh | Stephen | E | Lutz | FL | CHM | 1/21/1998 | 158,861
Wada | Isao | N | Oakland | CA | CHM | 7/6/2012 | 25,239
Wade | Michael | J | La Quinta | CA | OST | 5/19/2009 | 285,845
Wahdan | Buthayna | W | La Verne | CA | DEN | 3/1/1999 | 106,606
Wainwright | Mark |  | Oakland | CA | DEN | 7/6/2012 | 30,832
Walcher | Kevin | R | Booker | TX | CHM | 5/14/2002 | 103,890
Walker | Joel | W | Annapolis | MD | MED | 8/12/2016 | 56,108
Wall | Michael | J | Sandy | UT | MED | 3/3/2015 | 135,382
Wallace | Owen |  | Tonkawa | OK | CHM | 1/21/1998 | 51,491
Walsh | Richard | J | Ventura | CA | CHM | 1/21/1998 | 39,580
Walton | Teri | R | Pasadena | CA | CPY | 8/5/1999 | 181,110
Ward | Fairfield | A | Hampton | VA | DEN | 8/12/2016 | 36,730
Warner | Arthur |  | San Ramon | CA | DEN | 5/20/2004 | 121,246
Warner | Rick | A | Aurora | CO | CHM | 11/7/2001 | 111,900
Washington | Arthur | C | Houston | TX | MED | 9/24/2014 | 23,189
Washington | George | L | Baldwyn | MS | DEN | 5/7/2013 | 542,312
Washington | Patricia | A | Coto De Caza | CA | MED | 2/2/2018 | 123,265
Washington-Houzell | Patricia | L | Lakewood | CA | POD | 8/10/2001 | 523,142
Weatherly | Darrel | F | Jacksonville | FL | OST | 5/16/2011 | 542,031
Weil | Mitchell | A | San Clemente | CA | MED | 1/21/1998 | 61,717
Weisheit-Dasylva | Lyn | D | Marietta | GA | CHM | 3/1/1999 | 65,431
Welch | Ronald | B | Sandpoint | ID | CHM | 3/1/1999 | 97,961
Westing | Denise | D | Alameda | CA | CHM | 1/21/1998 | 121,321
Whedbee | Joseph | I | Redlands | CA | DEN | 5/14/2002 | 146,172
Whigham | Gwendolyn | E | Houston | TX | CHM | 3/1/1999 | 63,582
Whipkey | Douglas | G | Jensen Beach | FL | CHM | 1/21/1998 | 126,756
Whitaker | Aaron | T | Washington | DC | DEN | 5/19/2009 | 189,402
White | Judith | U | Huntington Beach | CA | CHM | 1/21/1998 | 36,904
Whittlesey | James | B | Novato | CA | CHM | 1/21/1998 | 57,170
Williams | Brett | S | Los Angeles | CA | MED | 5/14/2016 | 171,668
Williams | David | L | Pasadena | CA | POD | 1/21/1998 | 88,475
Williams | Duane | A | Livermore | CA | CHM | 1/21/1998 | 121,647
Williams | Pamela | A | Buena Park | CA | PUB | 1/21/1998 | 35,269
Williams | Simeon | J | Washington | DC | MED | 3/1/1999 | 107,607
Willis | Adam | C | Safety Harbor | FL | CHM | 1/21/1998 | 25,129
Winston | Gregg | O | Pompano Beach | FL | CHM | 3/1/1999 | 190,104
Wong | Matt | S | Mountain View | CA | CHM | 11/9/2010 | 48,826
Wong | Wan Sing | V | South San Francisco | CA | POD | 10/30/2003 | 197,034
Wright-Benford | Sheila | A | Southfield | MI | POD | 2/8/2017 | 60,834
Yeates | Terrance | C | Brooklyn | NY | DEN | 1/21/1998 | 201,611
Yniguez | Alma | B | Newark | CA | CHM | 2/20/2007 | 271,484
Yoste | Joseph |  | Brownsville | TX | DEN | 8/12/2016 | 96,530
Yurick | Richard |  | Bay St Louis | MS | CHM | 11/12/2013 | 61,170
Yurkovich | Mark | R | Bentleyville | PA | CPY | 8/12/2016 | 59,259
Zaun | Timothy | M | Lakewood | OH | DEN | 1/21/1998 | 181,527
Zeitsoff-Mahar | Deborah | L | Aptos | CA | CHM | 1/21/1998 | 122,574
Zucker | Ronald | G | Long Beach | NY | CHM | 4/24/1998 | 195,607
Totals | 696 |  |  | ................ | ..................... |  | 92,200,289

[FR Doc. 2018-25000 Filed 11-14-18; 8:45 am]

BILLING CODE 4000-01-P